Proclamation 10848 of October 31, 2024

National Alzheimer's Disease Awareness Month, 2024

By the President of the United States of America

A Proclamation

Too many Americans know the pain of losing a loved one to Alzheimer's—a leading cause of death in older adults. During National Alzheimer's Disease Awareness Month, we honor the courage and resilience of all those facing this devastating disease. We recommit to supporting every caregiver who pours their heart into helping people with Alzheimer's face this disease with dignity. And we strengthen our resolve to do everything we can to prevent, treat, and eliminate Alzheimer's as we know it.

Currently, over six million Americans have Alzheimer's disease, which robs people of their memories, clarity, and identity—taking a difficult emotional, financial, and physical toll on people facing the disease and the loved ones standing by their side. Alzheimer's also disproportionately impacts African Americans and Latino Americans, who are more likely to develop dementias than people of any other race or ethnicity. People with Down syndrome also have a higher risk of developing Alzheimer's.

My Administration has taken steps to drive new breakthroughs toward preventing, detecting, and treating Alzheimer's. I secured $4 billion for the Advanced Research Projects Agency for Health, directing funding to researchers and innovators who are pioneering new techniques and technologies to transform the lives of people with Alzheimer's and improve human health outcomes. I was also proud to sign the reauthorization of the National Alzheimer's Project Act and the Alzheimer's Accountability and Investment Act, ensuring the Federal Government is doubling down on our commitment to address Alzheimer's disease and related dementias. The National Institutes of Health is funding new clinical trials that are doing cutting-edge work to improve the lives of people with Alzheimer's—from pursuing new drugs that could prevent and treat dementia to improving cognition and memory for those who have it.

My Administration is committed to supporting the caregivers who care for people with Alzheimer's. I signed the Executive Order on Increasing Access to High-Quality Care and Supporting Caregivers—the most comprehensive set of executive actions any President has ever taken to improve care for hardworking families while supporting care workers and family caregivers. In response, the Centers for Medicare and Medicaid Services (CMS) launched the GUIDE Model, which offers a package of respite services, caregiver support and education, and care management and coordination for people living with Alzheimer's and related dementias. CMS is also continuing to increase access to cognitive care assessments so more people with Alzheimer's get the resources and care they need. And the Centers for Disease Control and Prevention is working to increase access to early detection, prevention, and treatment of dementias like Alzheimer's.

During National Alzheimer's Disease Awareness Month, we recommit to improving the prevention and treatment of Alzheimer's disease. We honor all the lives we have lost and all those we can still save. And we uplift the spirit of hope that countless medical professionals, researchers, and caregivers working to help people with Alzheimer's carry each day.

NOW, THEREFORE, I, JOSEPH R. BIDEN JR., President of the United States of America, by virtue of the authority vested in me by the Constitution and the laws of the United States, do hereby proclaim November 2024 as National Alzheimer's Disease Awareness Month. I call on the people of the United States of America to honor and support those living with Alzheimer's and the many people who continue extraordinary and tireless efforts to combat this disorder and care for those affected by it. I encourage all Americans to visit Alzheimers.gov for evidence-based resources and information.

IN WITNESS WHEREOF, I have hereunto set my hand this thirty-first day of October, in the year of our Lord two thousand twenty-four, and of the Independence of the United States of America the two hundred and forty-ninth.

[FR Doc. 2024-25803

Filed 11-4-24; 8:45 am]

Billing code 3395-F4-P